DEPARTMENT OF LABOR

Bureau of Labor Statistics

Data Users Advisory Committee; Notice of Meeting and Agenda

The Bureau of Labor Statistics Data Users Advisory Committee will meet on Thursday, November 10, 2022. This meeting will be held virtually.

The Committee provides advice to the Bureau of Labor Statistics from the points of view of data users from various sectors of the U.S. economy, including the labor, business, research, academic, and government communities. The Committee advises on technical matters related to the collection, analysis, dissemination, and use of the Bureau's statistics, on its published reports, and on the broader aspects of its overall mission and function.

The agenda for the meeting is as follows:

12:00 p.m. Commissioner's Welcome and Review of Agency Developments

12:30 p.m. Update on NextGen News Releases

1:15 p.m. Student MLR

1:45 p.m. Break

2:00 p.m. Reaching new audiences: New ways of presenting data for novice users: Scrollytelling and BLS educational material

2:45 p.m. Reaching those with Limited English Proficiency

3:15 p.m. BLS Apps: CareerInfo and Local Data

3:45 p.m. Discussion of Future Topics and Concluding Remarks

4:00 p.m. Conclusion

The meeting is open to the public. Anyone planning to attend the meeting should contact Ebony Davis, Data Users Advisory Committee, at Davis.Ebony@bls.gov. Any questions about the meeting should be addressed to Mrs. Davis. Individuals who require special accommodations should contact Mrs. Davis at least two days prior to the meeting date.

Signed at Washington, DC, this 7th day of October 2022.
Leslie Bennett,
Chief, Division of Management Systems.

[FR Doc. 2022-22322 Filed 10-13-22; 8:45 am]

BILLING CODE 4510-24-P